DEPARTMENT OF THE INTERIOR

Bureau of Land Management

[WY-030-2001-1310-DB]

Notice of Intent To Prepare an Environmental Impact Statement and Conduct Scoping for the Atlantic Rim Coalbed Methane Project, Carbon County, Wyoming; and To Amend the Great Divide Resource Management Plan

AGENCY: Bureau of Land Management, Interior.

ACTION: Notice of Intent (NOI) to prepare an Environmental Impact Statement (EIS) and to conduct scoping for the Atlantic Rim Coalbed Methane Project, Carbon County, Wyoming, and to amend the Great Divide Resource Management Plan.

SUMMARY: Under section 102(2)(C) of the National Environmental Policy Act (NEPA) of 1969, as amended, the Bureau of Land Management (BLM), Rawlins Field Office, will direct the preparation of an EIS on the potential impacts of a proposed coalbed methane field development project. Up to 3,880 coalbed methane wells, with associated facilities, could be located within approximately 310,335 acres of Federal, State, and private lands during the 20 to 30 year anticipated life of the proposed project. The project area is located in southwestern Carbon County, Wyoming. The proposed action may be modified as a result of comments received during scoping or anytime during the preparation of the draft EIS. Concurrently with the preparation of the project EIS, the planning requirements for amending the Great Divide Resource Management Plan (RMP) will also be conducted because the level of oil and gas development under this project proposal is likely to exceed the reasonably foreseeable development level analyzed in the EIS for the Great Divide RMP. Any needed changes in the reasonably foreseeable development scenario will be identified and the Great Divide RMP will be amended as necessary.

In accordance with 43 CFR 3420.1-2, this notice also serves as a call for coal and other resource information to solicit indications of interest and information on the coal resource, the coal resource development potential in the proposed project area, and on other resources which may affect or be affected by the proposed project. Affected Federal lands are administered by the BLM Rawlins Field Office. The EIS will be prepared by a third-party contractor.

DATES: Written comments on the project proposal will be accepted for 30 days following publication of this notice in the Federal Register. Future notification of public scoping meetings and other public involvement activities or meetings, concerning the proposed project and resource management plan amendment, will be provided through public notices, news media releases, the Wyoming BLM homepage at www.wy.blm.gov, and/or mailings. These notifications will provide at least 15 days advance notice of public meetings or gatherings and 30 days advance notice of written comment requests. At least two scoping meetings will be scheduled in the immediate future.

ADDRESSES: Comments should be sent to Bureau of Land Management, Rawlins Field Office, Brenda Vosika Neuman, Team Leader, 1300 North Third Street, P.O. Box 2407, Rawlins, Wyoming 82301, phone (307) 328-4200, or e-mailed to: rawlins_wymail@blm.gov.

The Scoping Notice will be posted on the Wyoming BLM homepage at www.wy.blm.gov. Your response is important and will be considered in the environmental analysis process. If you do respond, we shall keep you informed of decisions resulting from the analysis. Please note that public comments submitted throughout the analysis and resource management plan amendment process, including names, e-mail addresses, and street addresses of the respondents, will be available for public review and disclosure at the above address during regular business hours (7:45 a.m. to 4:30 p.m.) Monday through Friday, except holidays. Individual respondents may request confidentially. If you wish to withhold your name, e-mail address, or street address from public review or from disclosure under the Freedom of Information Act, you must state this plainly at the beginning of your written comment. Such requests will be honored to the extent allowed by law. All submissions from organizations or businesses, and from individuals who are representatives or officials of organizations or businesses, will be made available for public inspection in their entirety.

FOR FURTHER INFORMATION CONTACT: Bureau of Land Management, Brenda Vosika Neuman, Project Manager, 1300 North Third Street, P.O. Box 2407, Rawlins, Wyoming 82301, phone 307-328-4389, e-mail: Brenda_Neuman@blm.gov.

SUPPLEMENTARY INFORMATION: On May 24, 2001, The Petroleum Development Corporation (PEDCO) notified the Bureau of Land Management, Rawlins Field Office, that PEDCO and other operators intend to explore for and potentially develop coalbed methane wells in south-central Wyoming. Drilling is expected to last approximately 6 to 10 years, with a 20 to 30 year expected life-of-project. The proposed project area, referred to as the Atlantic Rim Coalbed Methane Project Area, is generally located in Townships 13-20 North, Ranges 89-92 West, Sixth Principal meridian, Carbon County, Wyoming.

The northern most boundary of the project area begins approximately 6 miles southwest of Rawlins, Wyoming, and the southern most boundary lies approximately 1 mile north of Dixon, Wyoming. The project area is approximately 310,335 acres in size. The northern portion of the project area is in the checkerboard land pattern area which consists of a mixture of Federal, State, and private lands and minerals. In the southern portion of the project area, Federal, State and private surface overlies a mineral estate in which the vast majority is owned by the Federal Government. The Federal land surface and Federally owned minerals in the project area are managed by the Rawlins BLM Field Office.

PEDCO and other operators propose to drill a maximum of 3,880 coalbed methane wells and construct associated facilities, including roads, well pads, pipelines, and compressor stations. Information on the potential to economically develop coalbed methane is limited in most of the project area. Drilling of exploratory coalbed methane wells on existing Federal leases will be permitted during the preparation of the EIS. A site-specific environmental assessment (EA) will be prepared for each individual group of wells referred to as pods. Nine exploratory pods have been proposed over the entire project area to define the coal structures in the area, to determine if the coal can be de-watered to allow for economic development of gas, and to support conclusions made in the EIS.

This EIS will address cumulative impacts and will include consideration of affects of other oil and gas projects addressed in recently completed EISs for the Mulligan Draw Gas Field Project, the Creston/Blue Gap Natural Gas Project, the Continental Divide/Wamsutter II Natural Gas Project, the South Baggs Area Natural Gas Development Project, and the EIS currently being prepared for the Desolation Flats Natural Gas Development Project. Potential issues to be addressed in the EIS include, but are not limited to, impacts to wildlife populations and their habitats, access road development and transportation management, impacts to surface and ground water resources including sedimentation/salinity to the Colorado River System, impacts from drilling and production activities, reclamation, noxious weed control, conflicts with livestock grazing operations, protection of cultural and paleontological resources, threatened and endangered species, conflicts between mineral development and recreational opportunities, and cumulative impacts.

Dated: June 8, 2001.
Alan R. Pierson,
State Director.

[FR Doc. 01-15939 Filed 6-25-01; 8:45 am]

BILLING CODE 4310-22-P